FEDERAL COMMUNICATIONS COMMISSION

Notice of Public Information Collection(s) Being Reviewed by the Federal Communications Commission, Comments Requested

March 23, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 1, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0331.

Title: Section 76.615B Notification Requirements.

From Number: N/A.

Type of Review: Extension of currently approved collection.

Respondents: Business or other for-profit entities.

Number of Respondents: 1200.

Estimated Time Per Response: 0.5 hours.

Total Annual Costs: $120,000.00.

Needs and Uses: The notifications are used by the Commission to locate and eliminate harmful interference as it occurs, to help assure safe operation of aeronautical and marine radio services and to minimize the possibility of interference to these safety-of-life services.

OMB Control Number: 3060-0594.

Title: FCC Form 1220 Cost of Service Filing for Regulated Cable Services.

Form Number: FCC Form 1220.

Type of Review: Extension of currently approved collection.

Respondents: Business or other for-profit entities, State, Local or Tribal Government.

Number of Respondents: 30.

Estimated Time Per Response: 40 hours.

Total Annual Costs: $480,000.00.

Needs and Uses: The FCC Form 1220 is filed with the Commission by cable operators to demonstrate their costs of providing cable service in order to justify rates above levels determined under the Commission's benchmark methodology. The Commission uses the Form 1220 to determine whether cable rates for basic service, cable programming service and associated equipment are reasonable under the Commission's rules.

OMB Control Number: 3060-0601.

Title: FCC Form 1200 Setting Maximum Permitted Rates for Regulated Cable Services.

Form Number: FCC Form 1200.

Type of Review: Extension of currently approved collection.

Respondents: Business or other for-profit entities, State, Local or Tribal Government.

Number of Respondents: 100.

Estimated Time Per Response: 10 hours.

Total Annual Costs: $200,000.00.

Needs and Uses: The FCC Form 1200 is filed with the Commission by cable operators and local franchise authorities to justify the reasonableness of rates in effect on or after May 15, 1994. The data are used by the Commission to evaluate cable rates the first time they are reviewed on or after May 15, 1994, so that maximum permitted rates for regulated cable service can be determined.

OMB Control Number: 3060-0685.

Title: Annual Updating of Maximum Permitted Rates for Regulated Cable Services.

Form Number: FCC Form 1240.

Type of Review: Extension of currently approved collection.

Respondents: Business or other for-profit entities, State, Local or Tribal Government.

Number of Respondents: 4500.

Estimated Time Per Response: 1.0 hour.

Total Annual Costs: $900,000.00.

Needs and Uses: The FCC Form 1240 is filed with the Commission by cable operators seeking to adjust maximum permitted rates to reflect changes in external costs. The Commission uses the Form 1240 to adjudicate permitted rates for regulated cable rates, services and equipment and for the addition of new programming tiers, the addition and/or deletion of channels, and for allowance for pass through of external costs due to inflation.

OMB Approval Number: 3060-0004.

Title: Guidelines for Evaluating the Environmental Effects of Radiofrequency (Second Memorandum Opinion and Order, ET Docket No. 93-2).

Form No.: None.

Type of Review: Extension of a currently approved collection.

Respondents: Not for profit institutions; businesses or other for profit; small businesses and organizations.

Number of Respondents: 126,108.

Estimated Time Per Response: 2 hours per response (avg.). This time will vary with the number of transmitters considered; e.g., a site with a single transmitter might require one hour to determine compliance, while a site with many co-located transmitters may require considerably more time.

Frequency of Response: On occasion reporting requirement and third party disclosure.

Total Annual Burden: 223,376 hours.

Estimated Annual Reporting and Recordkeeping Cost: The estimated cost to respondents to perform the environmental evaluations per service varies. For example, complex situations that require a consulting engineer @ $100 per hour may require additional time to perform an evaluation; portable devices authorized under Part 2 of the Rules require a specific absorption rate of RF energy test with an average cost of approximately $5,000 per test; and other applicants will use OET Bulletin No. 65 to perform environmental evaluations, and will have no financial burden associated with the evaluation.

Needs and Uses: The National Environmental Policy Act of 1969 (NEPA) requires agencies of the Federal Government to evaluate the effects of their actions on the quality of the human environment. To meet its responsibilities under NEPA, the Commission has adopted revised RF exposure guidelines for purposes of evaluating potential environmental effects of RF electromagnetic fields produced by FCC-regulated facilities. The new guidelines reflect more recent scientific studies of the biological effects of RF electromagnetic fields. The use of these new guidelines will ensure that the public and workers receive adequate protection from exposure to potentially harmful RF electromagnetic fields. The collection of environmental information required by section 1.1307 of the Rules will be used by the Commission staff to determine whether the environmental evaluation is sufficiently complete and in compliance with the Commission's Rules to be acceptable for filing.

OMB Control No. 3060-0813.

Title: Revision of the Commission's Rules to Ensure Compatibility with Enhanced 911 Emergency Calling Systems.

Form No.: N/A.

Type of Review: Revision and Extension of currently approved collection.

Respondents: Business and Government Entities.

Responses: 125,996.

Estimated Time Per Response: Between 1 hour and 5 hours.

Frequency of Response: Occasional (some are one-time burdens).

Total Annual Burden: 195,100 hours.

Total Annual Cost: 0.

Needs and Uses: The notification burden on Public Safety Answering Points (PSAPs) will be used by the carriers to verify that wireless 911 calls are referred to PSAPs who have the technical capability to use the data to the caller's benefit. TTY and dispatch notification requirements will be used to avoid consumer confusion as to the capabilities of their handsets in reaching help in emergency situations, thus minimizing the possibility of critical delays in response time. The annual TTY reports will be used to monitor the progress of TTY technology and thus compatibility. Consultations on the specific meaning assigned to pseudo-ANI are appropriate to ensure that all parties are working with the same information. Coordination between carriers and State and local entities to determine the appropriate PSAPs to receive and respond to E911 calls is necessary because of the difficulty in assigning PSAPs based on the location of the wireless caller. The deployment schedule that must be submitted by carriers seeking a waiver of the E911 Phase I or Phase II deployment schedule will be used by the Commission to guarantee that the rules adopted in this proceeding are enforced in as timely a manner as possible within technological constraints.

OMB Approval No.: 3060-0179.

Title: Section 73.1590 Equipment Performance Measurements.

Form No.: n/a.

Type of Review: Extension of currently approved collection.

Respondents: Businesses or other for-profit, not-for-profit institutions.

Number of Respondents: 4,685 AM stations, 8,032 FM stations and 332 TV stations.

Estimated Hours Per Response: 0.5 hours for AM/FM stations and 18 hours for TV stations.

Frequency of Response: On occasion.

Cost to Respondents: $0.

Estimated Total Annual Burden: 12,335 hours.

Needs and Uses: Section 73.1590 requires licensees of AM, FM and TV stations to make audio and video equipment performance measurements for each main transmitter. These measurements and a description of the equipment and procedure used in making the measurements must be kept on file at the transmitter for two years. In addition, this information must be made available to the FCC upon request. The data is used by station licensee to minimize the potential for interference to other stations and by FCC staff in field investigations to identify sources of interference.

Federal Communications Commission.
Magalie Roman Salas,
Secretary.

[FR Doc. 01-8041 Filed 3-30-01; 8:45 am]

BILLING CODE 6712-01-P